SECURITIES AND EXCHANGE COMMISSION

Submission for OMB Review; Comment Request

Upon Written Request, Copies Available From: Securities and Exchange Commission, Office of Filings and Information Services, Washington, DC 20549.

Extension: Rule 17a-12; SEC File No. 270-442; OMB Control No. 3235-0498.

Notice is hereby given that pursuant to the Paperwork Reduction Act of 1995 (44 U.S.C. 3501 et seq.), the Securities and Exchange Commission (”Commission”) has submitted to the Office of Management and Budget a request for extension of the previously approved collection of information discussed below.

Rule 17a-12, Reporting Requirements for OTC Derivatives Dealers

Rule 17a-12 under the Securities Exchange Act of 1934 requires OTC derivatives dealers to file quarterly Financial and Operational Combined Uniform Single Reports (“FOCUS” reports) on Part IIB of Form X-17A-5,¹ the basic document for reporting the financial and operational condition of OTC derivatives dealers. Rule 17a-12 also requires that OTC derivatives dealers annually file audited financial statements. The reports required under Rule 17a-12 provide the Commission with information used to monitor the operations of OTC derivatives dealers and to enforce their compliance with the Commission's rules. These reports also enable the Commission to review the business activities of OTC derivatives dealers and to anticipate, where possible, how these dealers may be affected by significant economic events.

¹ Form X-17A-5 (17 CFR 249.617).

The staff estimates that the average amount of time necessary to prepare and file the information required by Rule 17a-12 is 180 hours per OTC derivatives dealer annually: an average of twenty hours preparing each of four quarterly reports and an additional 100 hours on the annual audit. Three entities are presently registered as OTC derivatives dealers and the staff estimates that three additional OTC derivatives dealers may become registered within the next three years. Thus the total burden is estimated to be 1,080 hours annually for six OTC derivatives dealers.

General comments regarding the estimated burden hours should be directed to the following persons: (i) Desk Officer for the Securities and Exchange Commission, Office of Information and Regulatory Affairs, Office of Management and Budget, Room 10102, New Executive Office Building, Washington, DC 20503; and (ii) R. Corey Booth, Director/Chief Information Officer, Office of Information Technology, Securities and Exchange Commission, 450 Fifth Street, NW., Washington, DC 20549. Comments must be submitted to OMB within thirty days of this notice.

Dated: April 12, 2004.
Margaret H. McFarland,
Deputy Secretary.

[FR Doc. 04-8730 Filed 4-16-04; 8:45 am]

BILLING CODE 8010-01-P